DEPARTMENT OF VETERANS AFFAIRS

Advisory Committee on CARES Business Plan Studies; Notice of Meeting

The Department of Veterans Affairs (VA) gives notice under the Public Law 92-463 (Federal Advisory Committee Act) that the Advisory Committee on CARES Business Plan Studies will meet as indicated below. The meetings are open to the public.

Location | Date | Time
VA Southern Oregon Rehabilitation Center and Clinics (SORCC) Campus Study, Auditorium (on campus), 8495 Crater Lake Hwy., White City, OR 97503 | Thursday, September 8, 2005 | 1 p.m. until 5 p.m.
Livermore Campus Study, VA Palo Alto Health Care System, Livermore Division, Building 90, NHCU Dining Room, 4951 Arroyo Road, Livermore, CA 94550 | Wednesday, September 14, 2005 | 9 a.m. until 4:30 p.m.
Poplar Bluff VA Medical Center Study, Poplar Bluff VA Medical Center, Building 1, Room 2099, 1500 North Westwood Blvd, Poplar Bluff, MO 63901 | Wednesday, September 14, 2005 | 1 p.m. until 4 p.m.
Manhattan/Brooklyn Study, Sheraton Hotel, 811 7th Ave and 53rd Sts., New York, NY 10019 | Monday, September 19, 2005 | 8:30 a.m. until 9 p.m.
Montrose Campus Study, Montrose Campus of VA Hudson Valley Health Care System, Theatre-Building 2, 2094 Albany Post Road, Montrose, New York 10548 | Thursday, September 22, 2005 | 2:30 p.m. until 8 p.m.
West Los Angeles Campus Study, VA Greater Los Angeles Healthcare System, Wadsworth Theater, Bldg 226, 11301 Wilshire Blvd., Los Angeles, CA 90073 | Thursday, September 22, 2005 | 12 p.m. until 9 p.m.
Lee's Town Campus Study, VA Medical Center, 2250 Leestown Road Division, Bldg. 4, Room 100 (Auditorium), Lexington, KY 40511 | Thursday, September 22, 2005 | 9 a.m. until 4 p.m.
Perry Point Campus Study, Perry Point VA Medical Center, Building 314, Theater, Perry Point, MD 21902 | Tuesday, September 27, 2005 | 9 a.m. until 4 p.m.
Boston Area Study, Campus Center Ballroom, University of Massachusetts/Boston, Columbia Point, Boston, MA 02125 | Tuesday, September 27, 2005 | 9:30 a.m. until 4 p.m.
Waco Campus Study, Waco Convention Center, 100 Washington Avenue, Waco, Texas 76702 | Tuesday, September 27, 2005 | 8 a.m. until 6 p.m.
Gulfport Campus Study, VA Gulf Coast Veterans Health Care System, Bldg. 17, Recration Hall, 400 Veterans Avenue, Biloxi, MS 29531 | Thursday, September 29, 2005 | 1 p.m. until 5 p.m.
St. Albans Campus Study, St. Albans Campus, 179th St. & Linden Blvd., Pratt Auditorium, St. Albans, NY 11425 | Thursday, September 29, 2005 | 11 a.m. until 8:30 p.m.
Walla Walla VAMC Study, Wildhorse Resort and Casino, Cayuse Hall, Pendleton, OR 97801 | Friday, September 30, 2005 | 9 a.m. until 5 p.m.
Louisville Medical Center Study, The Clifton Center, 2117 Payne Street, Louisville, KY 40206 | Tuesday, October 4, 2005 | 10:30 a.m. until 6:30 p.m.

The purpose of the Committee is to provide advice to the Secretary of Veterans Affairs on proposed business plans at those VA facility sites identified in May 2004 as requiring further study by the Capital Asset Realignment for Enhanced Services (CARDS) Decision document.

The agenda at each meeting will include a discussion of the potential CARES Business Plan options for each site. The options have been developed by the VA contractor. The agenda will provide time for public comments on the options and for discussion of which options should be considered by the Secretary for further analysis and development in the next stage of the Business Plan Option development process.

Interested persons may attend and present oral or written statements to the Committee. For additional information regarding the meetings, please contact Mr. Jay Halpern, Designated Federal Officer, (00CARES), 810 Vermont Avenue, NW., Washington, DC 20024 by phone at (202) 273-5994, or by e-mail at jay.halpern@va.gov.

Dated: August 18, 2005.
By direction of the Secretary.
E. Philip Riggin,
Committee Management Officer.

[FR Doc. 05-16849 Filed 8-24-05; 8:45 am]

BILLING CODE 8320-01-M